DEPARTMENT OF HEALTH AND HUMAN SERVICES

National Institutes of Health

Center for Scientific Review; Amended Notice of Meeting

Notice is hereby given of a change in the meeting of the Center for Scientific Review Special Emphasis Panel, July 8, 2008, 8 a.m. to July 8, 2008, 5:30 p.m., National Institutes of Health, 6701 Rockledge Drive, Bethesda, MD 20892, which was published in the Federal Register on June 2, 2008, 73 FR 31493-31495.

The meeting title has been changed to “Tomography for Chronic Diseases”. The meeting is closed to the public.

Dated: June 4, 2008.
Anna Snouffer,
Deputy Director, Office of Federal Advisory Committee Policy.

[FR Doc. E8-13020 Filed 6-11-08; 8:45 am]

BILLING CODE 4140-01-M